DEPARTMENT OF THE INTERIOR

Fish and Wildlife Service

[FW-HQ-MB-2014-N221; FXMB37660900000-14X-FF09M12000]

Proposed Information Collection; Migratory Birds and Wetlands Conservation Grant Programs

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on January 31, 2015. We may not conduct or sponsor and a person is not required to respond to a collection of information unless it displays a currently valid OMB control number.

DATES: To ensure that we are able to consider your comments on this IC, we must receive them by December 22, 2014.

ADDRESSES: Send your comments on the IC to the Service Information Collection Clearance Officer, U.S. Fish and Wildlife Service, MS BPHC, 5275 Leesburg Pike, Falls Church, VA 22041-3803 (mail); or hope_grey@fws.gov (email). Please include “1018-0100” in the subject line of your comments.

FOR FURTHER INFORMATION CONTACT: To request additional information about this IC, contact Hope Grey at hope_grey@fws.gov (email) or 703-358-2482 (telephone).

SUPPLEMENTARY INFORMATION:

I. Abstract.

The Division of Bird Habitat Conservation administers grant programs associated with the North American Wetlands Conservation Act (NAWCA), Public Law 101-233, and the Neotropical Migratory Bird Conservation Act (NMBCA), Public Law 106-247.

North American Wetlands Conservation Act Grants

NAWCA provides matching grants to organizations and individuals who have developed partnerships to carry out wetlands conservation projects in the United States, Canada, and Mexico for the benefit of wetlands-associated migratory birds and other wildlife. There is a Standard and a Small Grants Program. Both are competitive grants programs and require that grant requests be matched by partner contributions at no less than a 1-to-1 ratio. Funds from U.S. Federal sources may contribute to a project, but are not eligible as a match.

The Standard Grants Program supports projects in Canada, the United States, and Mexico that involve long-term protection, restoration, and/or enhancement of wetlands and associated uplands habitats. In Mexico, partners may also conduct projects involving technical training, environmental education and outreach, organizational infrastructure development, and sustainable-use studies.

The Small Grants Program operates only in the United States. It supports the same types of projects and adheres to the same selection criteria and administrative guidelines as the U.S. Standard Grants Program. However, project activities are usually smaller in scope and involve fewer project dollars. Grant requests may not exceed $75,000, and funding priority is given to grantees or partners new to the NAWCA Grants Program.

We publish notices of funding availability on Grants.gov (http://www.grants.gov), as well as in the Catalog of Federal Domestic Assistance (https://www.cfda.gov). To compete for grant funds, partnerships submit applications that describe in substantial detail project locations, project resources, future benefits, and other characteristics that meet the standards established by the North American Wetlands Conservation Council and the requirements of NAWCA. Materials that describe the program and assist applicants in formulating project proposals are available on our Web site at http://www.fws.gov/birdhabitat/Grants/NAWCA. Persons who do not have access to the Internet may obtain instructional materials by mail. We have not made any major changes in the scope and general nature of the instructions since the OMB first approved the information collection in 1999.

Neotropical Migratory Bird Conservation Act

NMBCA establishes a matching grant program to fund projects that promote the long-term conservation of neotropical migratory birds and their habitats in the United States, Canada, Latin America, and the Caribbean. Principal conservation actions supported are:

• Protection and management of populations.

• Maintenance, management, protection, and restoration of habitat.

• Research and monitoring.

• Law enforcement.

• Community outreach and education.

We publish notices of funding availability on Grants.gov as well as in the Catalog of Federal Domestic Assistance. To compete for grant funds, partnerships submit applications that describe in substantial detail project locations, project resources, future benefits, and other characteristics that meet the standards established by the U.S. Fish and Wildlife Service and the requirements of NMBCA.

Materials that describe the program and assist applicants in formulating project proposals for consideration are available on our Web site at http://www.fws.gov/birdhabitat/Grants/NMBCA. Persons who do not have access to the Internet may obtain instructional materials by mail. We have not made any major changes in the scope and general nature of the instructions since the OMB first approved the information collection in 2002.

II. Data

OMB Control Number: 1018-0100.

Title: Migratory Birds and Wetlands Conservation Grant Programs.

Service Form Number(s): None.

Type of Request: Extension of a currently approved collection.

Description of Respondents: Domestic and foreign individuals, businesses, and other for-profit organizations; educational organizations; not-for-profit institutions; and Federal, State, local, and/or tribal governments.

Respondent's Obligation: Required to obtain or retain a benefit.

Frequency of Collection: On occasion.

Activity | Number of respondents | Number of responses | Completion time per response (hours) | Total annual burden hours
NAWCA Small Grants—Applications | 71 | 71 | 40 | 2,840
NAWCA Small Grants—Reports | 99 | 99 | 33 | 3,267
NAWCA U.S. Standard Grants—Applications | 69 | 69 | 203 | 14,007
NAWCA Canadian and Mexican Standard Grants—Applications | 27 | 27 | 80 | 2,160
NAWCA Standard Grants—Reports | 177 | 177 | 30 | 5,310
NMBCA Grant Applications | 84 | 84 | 60 | 5,040
NMBCA Reports | 71 | 71 | 40 | 2,840
TOTALS | 598 | 598 |  | 35,464

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: October 17, 2014.
Tina A. Campbell,
Chief, Division of Policy and Directives Management, U.S. Fish and Wildlife Service.

[FR Doc. 2014-25108 Filed 10-21-14; 8:45 am]

BILLING CODE 4310-55-P